DEPARTMENT OF AGRICULTURE

Rural Utilities Service

7 CFR Part 1755

Specifications and Drawings for Construction of Direct Buried Plant

AGENCY: Rural Utilities Service, USDA.

ACTION: Proposed Rule; correction.

SUMMARY: The Rural Utilities Service (RUS) published a document in the Federal Register of June 8, 2010, at 75 FR 32313 regarding the request for comments on revising RUS Bulletin 1753F-150, Specifications and Drawings for Construction of Direct Buried Plant (Form 515a). This document corrects the Docket ID number.

FOR FURTHER INFORMATION CONTACT: Joyce McNeil, 202-720-0812.

Correction

In the proposed rule document FR Doc. 2010-12830 beginning on page 32313 in the issue of June 8, 2010, make the following correction:

On page 32313, in the third column, under the heading ADDRESSES, in the ninth line “RUS-2010-Telecom-0003” should read “RUS-10-Telecom-0002”.

Dated: June 24, 2010.
James R. Newby,
Acting Administrator, Rural Utilities Service.

[FR Doc. 2010-15943 Filed 6-30-10; 8:45 am]

BILLING CODE P